DEPARTMENT OF HEALTH AND HUMAN SERVICES

Centers for Disease Control and Prevention

[60 Day-10-0004]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. Alternatively, to obtain a copy of the data collection plans and instrument, call 404-639-5960 and send comments to Maryam I. Daneshvar, CDC Acting Reports Clearance Officer, 1600 Clifton Road NE., MS-D74, Atlanta, Georgia 30333; comments may also be sent by e-mail to omb@cdc.gov.

Comments are invited on (a) whether the proposed collection of information is necessary for the proper performance of the functions of the agency, including whether the information shall have a practical utility; (b) the accuracy of the agency's estimate of the burden of the proposed collection of information; (c) ways to enhance the quality, utility, and clarify of the information to be collected; and (d) ways to minimize the burden of the collection of information on respondents, including through the use of information technology. Written comments should be received within 60 days of this notice.

Proposed Project

National Disease Surveillance Program II. Disease Summaries (0920-0004 Exp. 5/31/2010)—Revision—National Center for Emerging and Zoonotic Infectious Diseases (NCEZID) (proposed), Centers for Disease Control and Prevention (CDC).

Background and Brief Description

Surveillance of the incidence and distribution of disease has been an important function of the U.S. Public Health Service (PHS) since 1878. Through the years, PHS/CDC has formulated practical methods of disease control through field investigations. The CDC National Disease Surveillance Program is based on the premise that diseases cannot be diagnosed, prevented, or controlled until existing knowledge is expanded and new ideas developed and implemented. Over the years, the mandate of CDC has broadened to include preventive health activities and the surveillance systems maintained have expanded.

CDC and the Council of State and Territorial Epidemiologists (CSTE) collect data on disease and preventable conditions in accordance with jointly approved plans. Changes in the surveillance program and in reporting methods are effected in the same manner. At the onset of this surveillance program in 1968, the CSTE and CDC decided on which diseases warranted surveillance. These diseases are reviewed and revised based on variations in the public's health. Surveillance forms are distributed to the State and local health departments who voluntarily submit these reports to CDC at variable frequencies, either weekly or monthly. CDC then calculates and publishes weekly statistics via the Morbidity and Mortality Weekly Report (MMWR), providing the states with timely aggregates of their submissions.

The following diseases/conditions are included in this program: Diarrheal disease surveillance (includes campylobacter, salmonella, and shigella), foodborne outbreaks, arboviral surveillance (ArboNet), Influenza virus, including the annual survey and influenza-like illness, Respiratory and Enterovirus surveillance, rabies, waterborne diseases, cholera and other vibrio illnesses, Listeria, Calcinet, Harmful Algal Bloom-related Infectious Surveillance System (HABISS) data entry form, and the HABISS monthly reporting form. These data are essential on the local, state, and Federal levels for measuring trends in diseases, evaluating the effectiveness of current prevention strategies, and determining the need for modifying current prevention measures.

This request is for revision of the currently approved data collection for three years. The revisions include minor changes to reporting forms already approved under this OMB Control Number. Because of the distinct nature of each of the diseases, the number of cases reported annually is different for each. There is no cost to respondents other than their time.

Estimate of Annualized Burden Hours
Form | Number of respondents | Number of responses per respondent | Average burden per response (in hours) | Total burden (in hours)
Diarrheal Disease Surveillance: Campylobacter (electronic) | 53 | 52 | 3/60 | 138
Diarrheal Disease Surveillance: Salmonella (electronic) | 53 | 52 | 3/60 | 138
Diarrheal Disease Surveillance: Shigella (electronic) | 53 | 52 | 3/60 | 138
Foodborne Outbreak Form | 54 | 25 | 15/60 | 338
Arboviral Surveillance (ArboNet) | 57 | 1,421 | 4/60 | 5,400
—Influenza virus (fax, Oct-May) | 8 | 33 | 10/60 | 44
—Influenza virus (fax, year round) | 15 | 52 | 10/60 | 130
*** Influenza virus (Internet; Oct-May) | 13 | 33 | 10/60 | 72
*** Influenza virus (Internet; year round) | 24 | 52 | 10/60 | 208
—Influenza virus (electronic, Oct-May) | 9 | 33 | 5/60 | 25
—Influenza virus (electronic, year round) | 14 | 52 | 5/60 | 61
Influenza Annual Survey | 83 | 1 | 15/60 | 21
Influenza-like Illness (Oct-May) | 824 | 33 | 15/60 | 6,798
Influenza-like Illness (year round) | 496 | 52 | 15/60 | 6,448
Monthly Respiratory & Enterovirus Surveillance Report: Excel format (electronic) | 25 | 12 | 15/60 | 75
National Respiratory & Enteric Virus Surveillance System (NREVSS) | 92 | 52 | 10/60 | 797
Rabies (electronic) | 40 | 12 | 8/60 | 64
Rabies (paper) | 15 | 12 | 20/60 | 60
Waterborne Diseases Outbreak Form | 26 | 2 | 20/60 | 17
Cholera and other Vibrio illnesses | 450 | 1 | 20/60 | 150
CaliciNet | 30 | 10 | 10/60 | 50
Listeria | 53 | 1 | 30/60 | 27
HABISS data entry form | 10 | 12 | 8 | 960
HABISS monthly reporting form | 10 | 12 | 30/60 | 60
Total |  |  |  | 22,219

Dated: December 29, 2009.
Maryam I. Daneshvar,
Acting Reports Clearance Officer, Centers for Disease Control and Prevention.

[FR Doc. E9-31369 Filed 1-4-10; 8:45 am]

BILLING CODE 4163-18-P